DEPARTMENT OF THE INTERIOR

Bureau of Reclamation

[RR85854000; XXXR4524KS; RR.4888TR11.0040001]

Agency Information Collection Activities Under OMB Review; Proposed New Collection

AGENCY: Bureau of Reclamation, Interior.

ACTION: Notice.

SUMMARY: The Bureau of Reclamation has forwarded the following Information Collection Request to the Office of Management and Budget (OMB) for review and approval: Collection and Compilation of Water Pipeline Field Performance Data (OMB Control Number 1006-XXXX). The Information Collection Request describes the nature of the information collection and its expected cost burden.

DATES: OMB has up to 60 days to approve or disapprove this information collection request, but may respond after 30 days; therefore, public comment must be received on or before February 17, 2017.

ADDRESSES: Send written comments to the Desk Officer for the Department of the Interior at the Office of Management and Budget, Office of Information and Regulatory Affairs, via facsimile to (202) 395-5806, or email to oira_submission@omb.eop.gov. A copy of your comments should also be directed to Dr. Lee Sears, Materials and Corrosion Laboratory, 86-68540, Bureau of Reclamation, P.O. Box 25007, Denver, Colorado 80225; or via email to lsears@usbr.gov. Please reference OMB Control Number: 1006-XXXX in your comments.

FOR FURTHER INFORMATION CONTACT: Dr. Lee Sears at 303-445-2392. You may also view the Information Collection Request at www.reginfo.gov.

SUPPLEMENTARY INFORMATION:

I. Abstract

In accordance with the Paperwork Reduction Act of 1995 (44 U.S.C. 3501 et seq.), this notice announces that the Bureau of Reclamation (Reclamation) has obtained the services of an outside entity to survey water utilities and collect data on water pipeline performance. The information being collected is required to comply with a request from Congress for Reclamation to assemble data on pipeline reliability for specific types of pipes.

From 2013 through 2015, Reclamation worked with Water Research Foundation and Battelle Memorial Institute (Battelle) on a draft information collection request (ICR) to collect high-quality field performance data on pipeline reliability for water pipelines of different material and vintage. A Federal Register notice announcing the availability of this draft collection of this information was initiated on February 26, 2014 (79 FR 10842), offering the public a 60-day public comment period. A summary of comments received during the 60-day comment period, disposition of comments, and revised draft information collection were published in the Federal Register on October 1, 2014 (79 FR 59291) and the public comment period was reopened for another 30 days. In response to the public's request for additional time to comment, a third notice was published in the Federal Register on October 30, 2014 (79 FR 64622), extending the comment period another 30 days. In total, the public was provided 120 days to comment on the draft ICR. Also at the public's request, all draft supporting documents were made available to the public for consideration. The contract between Reclamation and its partners was terminated in July 2015 before the ICR could be finalized.

Reclamation signed an agreement in November 2015 with Virginia Polytechnic Institute and State University (Virginia Tech) to develop a new ICR to collect buried water pipe performance data. The notice announcing the new draft ICR was published in the Federal Register on July 14, 2016 (81 FR 45533) to start the 60-day public comment period. The public comment period for this ICR ended on September 12, 2016. Information gathered from Reclamation's earlier attempt to develop an ICR to collect pipeline reliability data was incorporated into this current ICR.

II. Summary of Proposed Changes, Comments and Responses

Comments on this ICR were received from two entities. Responses to the public comments are addressed in Supporting Statement A of this ICR and are available for public review at www.reginfo.gov. Copies of the comments have also been uploaded at this same web address.

III. Data

Title: Collection and Compilation of Water Pipeline Field Performance Data.

OMB Control Number: 1006-XXXX.

Description of respondents: Water utility and Federal facility pipe data managers.

Frequency: One-time collection.

Estimated completion time: 10 minutes (making participation decision), 30 minutes (introductory webinar); and 110 minutes (uploading data). The total estimated time is 150 minutes for each respondent.

Estimated Total Number of Respondents: 500 (making participation decision).

Estimated Number of Responses per Respondent: 1.

Estimated Total of Annual Responses: 250.

Estimated Total Annual Burden Hours on Respondents: 83 hours (making participation decision); 126 hours (introductory webinar); and 459 hours (uploading data), for a combined total of 668 hours.

IV. Request for Comments

We invite your comments on:

(a) Whether the proposed collection of information is necessary for the proper performance of our functions, including whether the information will have practical use;

(b) the accuracy of our burden estimate for the proposed collection of information;

(c) ways to enhance the quality, usefulness, and clarity of the information to be collected; and

(d) ways to minimize the burden of the collection of information on respondents, including the use of automated collection techniques or other forms of information technology.

An agency may not conduct or sponsor, and a person is not required to respond to, a collection of information unless it displays a currently valid OMB control number. Reclamation will display a valid OMB control number on the survey.

V. Public Disclosure

Before including your address, phone number, email address, or other personal identifying information in your comment, you should be aware that your entire comment—including your personal identifying information—may be made publicly available at any time. While you can ask us in your comment to withhold your personal identifying information from public review, we cannot guarantee that we will be able to do so.

Dated: January 10, 2017.
Richard W. LaFond,
Chief, Civil Engineering Services Division, Bureau of Reclamation.

[FR Doc. 2017-01002 Filed 1-17-17; 8:45 am]

BILLING CODE 4332-90-P